DEPARTMENT OF TRANSPORTATION

Coast Guard

33 CFR Part 165

[COTP Prince William Sound 02-010]

RIN 2115-AA97

Safety Zone; Ammunition Island, Port Valdez, AK

AGENCY: Coast Guard, DOT.

ACTION: Correcting amendments.

SUMMARY: The Coast Guard is correcting the coordinates in a final rule for a safety zone encompassing Ammunition Island in Port Valdez, Alaska, that was published in the Federal Register on August 17, 1987 and amended on June 30, 1998. We are making this correction because of an incorrect position that was attributed to Ammunition Island and published in the final rule. This correction changes the coordinates of Ammunition Island to latitude 61°07′28″ N, longitude 146°18′29″ W.

DATES: Effective on June 21, 2002.

ADDRESSES: The public docket for this rulemaking is maintained by Coast Guard Marine Safety Office Valdez, P.O. Box 486, Valdez, Alaska 99686. Materials in the public docket are available for inspection or copying at Coast Guard Marine Safety Office Valdez. Normal office hours are 7:30 a.m. to 4:30 p.m., Monday through Friday, except Federal holidays.

FOR FURTHER INFORMATION CONTACT: Chief Warrant Officer Milo Ortiz, U.S. Coast Guard Marine Safety Office Valdez, Alaska, at (907) 835-7205.

SUPPLEMENTARY INFORMATION:

Background

The Coast Guard published a final rule in the Federal Register on August 17, 1987, (52 FR 30671) establishing a safety zone for the waters within 1330 yards of Ammunition Island, latitude 61°07′5″ N, longitude 146°18′ W, (NAD 83) and the vessel moored or anchored at Ammunition Island, Port Valdez, Alaska (33 CFR 165.1703). The zone is needed to protect the safety of persons and vessels operating in the vicinity during ammunition and explosives loading and offloading operations.

Need for Correction

It was recently discovered that the listed position for Ammunition Island was incorrect. The Coast Guard is correcting the listed position for Ammunition Island to latitude 61°07′28″ N, 146°18′29″ W (NAD 83).

List of Subjects in 33 CFR Part 165

Harbors, Marine safety, Navigation (water), Reporting and recordkeeping requirements, Security measures, Waterways.

Accordingly, 33 CFR part 165 is corrected to make the following correcting amendments:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. In § 165.1703 revise paragraph (a) to read as follows:

§ 165.1703 Ammunition Island, Port Valdez, Alaska.

(a) Location. The waters within the following boundaries is a safety zone—the area within a radius of 1330 yards of Ammunition Island, centered on latitude 61°07′28″ N, longitude 146°18′29″ W, (NAD 83) and the vessel moored or anchored at Ammunition Island.

* * * * *

Dated: June 21, 2002.
P.M. Coleman,
Commander, Coast Guard, Captain of the Port Prince William Sound, Alaska.

[FR Doc. 02-17099 Filed 7-8-02; 8:45 am]

BILLING CODE 4910-15-P